CONSUMER PRODUCT SAFETY COMMISSION

16 CFR Chapter II

Fiscal Year 2006 Program for Systematic Review of Commission Regulations; Request for Comments and Information

AGENCY: Consumer Product Safety Commission.

ACTION: Notice of systematic review of current regulations.

SUMMARY: The Consumer Product Safety Commission (CPSC or Commission) announces its fiscal year 2006 program for systematic review of its current substantive regulations to ensure, to the maximum practical extent, consistency among them and with respect to accomplishing program goals. In fiscal year 2006, the following three regulations will be evaluated: Safety standard for matchbooks, 16 CFR part 1202; toy rattles, 16 CFR part 1500.18(a)(1); and baby bouncers, walker-jumpers, and baby walkers, 16 CFR part 1500.18(a)(6).

The primary purpose of the review is to assess the degree to which the regulations under review remain consistent with the Commission's program policies. In addition, each regulation will be examined with respect to the extent that it is current and relevant to CPSC program goals. Attention will also be given to whether the regulations can be streamlined, if possible, to minimize regulatory burdens, especially on small entities. To the degree consistent with other Commission priorities and subject to the availability of personnel and fiscal resources, specific regulatory or other projects may be undertaken in response to the results of the review.

The Commission solicits written comments from interested persons concerning the designated regulations' currentness and consistency with Commission policies and goals, and suggestions for streamlining where appropriate. In so doing, commenters are requested to specifically address how their suggestions for change could be accomplished within the statutory frameworks for Commission action under the Consumer Product Safety Act (CPSA), 15 U.S.C. 2051-2084, and the Federal Hazardous Substances Act (FHSA), 15 U.S.C. 1261-1278.

DATE: Comments and submissions in response to this notice must be received by August 7, 2006.

ADDRESSES: Comments and other submissions should be captioned “Fiscal Year 2006 Regulatory Review Project” and be submitted by e-mail to cpsc-os@cpsc.gov or by facsimile to (301) 504-0127. Comments may also be submitted by mail or delivered to the Office of the Secretary, Consumer Product Safety Commission, Room 502, 4330 East-West Highway, Bethesda, Maryland 20814.

FOR FURTHER INFORMATION CONTACT: Linda Edwards, Office of Hazard Identification and Reduction, U.S. Consumer Product Safety Commission, 4330 East-West Highway, Bethesda, Maryland 20814; telephone (301) 504-7535; e-mail eedwards@cpsc.gov.

SUPPLEMENTARY INFORMATION:

A. The Review Program

The President's Office of Management and Budget has designed the Program Assessment Rating Tool (PART) to provide a consistent approach to rating programs across the Federal government. A description of the PART process and associated program evaluation materials is available online at: http://www.whitehouse.gov/omb/budintegration/part_assessing 2004.html.

Based on an evaluation of the Commission's regulatory programs using the PART, the recommendation was made that CPSC develop a plan to systematically review its current regulations to ensure consistency among them in accomplishing program goals. In FY 2004, the Commission conducted a pilot review program as the initial step in implementing that recommendation. The notice announcing the pilot program appeared in the Federal Register on January 28, 2004. 69 FR 4095. Based on the success of the pilot program, the Commission announced the continuation of the program for subsequent fiscal years.

B. The Regulations Undergoing Review

A summary of each of the regulations being reviewed in fiscal year 2006 is provided below. The full text of the regulations may be accessed at: http://www.access.gpo.gov/nara/cfr/waisidx_03/16cfrv2_03.html.

1. Safety Standard for Matchbooks

The safety standard for matchbooks appears at 16 CFR part 1202. The standard prescribes the safety requirements, including labeling requirements, for matchbooks. It applies to all matchbooks manufactured in or imported into the United States and is intended to address certain burn and eye injuries.

2. Toy Rattles

The standard for toy rattles appears at 16 CFR part 1500.18(a)(1). It applies to toy rattles containing, either internally or externally, rigid wires, sharp protrusions, or loose small objects that have the potential for causing lacerations, puncture wound injury, aspiration, ingestion, or other injury. Such toy rattles are included as banned toys and other banned articles intended for use by children.

3. Baby Bouncers, Walker-Jumpers, or Baby Walkers

The standard for baby bouncers, walker-jumpers, and baby-walkers appears at 16 CFR part 1500.18(a)(6). The standard applies to any article known as a “baby bouncer,” walker-jumper,” or “baby walker,” and any other similar article which is intended to support very young children while sitting, walking, bouncing, jumping, and/or reclining, and which because of its design has any exposed parts capable of causing amputation, crushing, lacerations, fractures, hematomas, bruises, or other injuries to fingers, toes, or other parts of the anatomy of young children. Such articles are included as banned toys and other banned articles intended for use by children.

C. Solicitation of Comments and Information

The Commission invites interested persons to submit comments on each of the regulations being reviewed in the fiscal year 2006 program. In particular, commenters are asked to address:

1. Whether the regulation is consistent with CPSC program goals.

2. Whether the regulation is consistent with other CPSC regulations.

3. Whether the regulation is current with respect to technology, economic, or market conditions, and other mandatory or voluntary standards.

4. Whether the regulation can be streamlined to minimize regulatory burdens, particularly any such burdens on small entities.

For each regulation being reviewed, please provide any specific recommendations for change(s), if viewed as necessary, a justification for the recommended change(s), and, with respect to each suggested change, a statement of the way in which the change can be accomplished within the statutory framework of the CPSA, FHSA, FFA, or PPPA, as applicable.

Comments and other submissions should be captioned “Fiscal Year 2006 Regulatory Review Project” and e-mailed to cpsc-os@cpsc.gov or faxed to (301) 504-0127. Comments or other submissions may also be mailed or delivered to the Office of the Secretary, Consumer Product Safety Commission, Room 502, 4330 East-West Highway, Bethesda, Maryland 20814. All comments and other submissions must be received by August 7, 2006.

Dated: May 31, 2006.
Todd A. Stevenson,
Secretary, Consumer Product Safety Commission.

[FR Doc. E6-8763 Filed 6-6-06; 8:45 am]

BILLING CODE 6355-01-P